DEPARTMENT OF DEFENSE

Department of the Army, Corps of Engineers

Intent To Prepare an Environmental Impact Statement for the Combined Operational Plan, Miami-Dade County, FL

AGENCY: Department of the Army, U.S. Army Corps of Engineers, DoD.

ACTION: Notice of intent.

SUMMARY: The Combined Operational Plan (COP) is an integrated operational plan for Water Conservation Area 3 (WCA-3), Everglades National Park (ENP) and the South Dade Conveyance System (SDCS), that includes the completed modifications of the Central and Southern Florida (C&SF) Project as described by the Modified Waters Deliveries to Everglades National Park and the Canal-111 South Dade (C-111SD) projects. The purpose of COP is to define water management operations for the completed MWD and C-111SD projects that are consistent with their respective project purposes as defined by their authorizing legislation and further refined by their respective general design memorandum (GDM) and general reevaluation report (GRR). This integrated operational plan will complete the MWD project.

ADDRESSES: U.S. Army Corps of Engineers, Planning Division, Environmental Branch, P.O. Box 4970, Jacksonville, FL 32232-0019.

FOR FURTHER INFORMATION CONTACT: Dr. Gina Ralph at 904-232-2336 or e-mail at Gina.P.Ralph@usace.army.mil.

SUPPLEMENTARY INFORMATION: a. Planning objectives include (1) Improving water deliveries into ENP and taking steps to restore natural hydrologic conditions in ENP to the extent practicable by: Timing: Changing the schedule of water deliveries so that it fluctuates in consonance with local meteorological conditions, including providing for long term and annual variation in ecosystem conditions in the Everglades; Location: Restoring Northeast Shark Slough as a functioning component of the Everglades hydrologic system; Volume: Adjusting the magnitude of water discharged to ENP to minimize the effects of too much or too little water. (2) Protecting the intrinsic ecological values associated with the WCA-3, Shark River Slough and ENP; (3) restoring hydrologic conditions in Taylor Slough, Rocky Glades and the eastern Panhandle of ENP; (4) eliminating damaging freshwater flows to Manatee Bay/Barnes Sound and increasing flows to northeast Florida Bay from the lower C-111; (5) including consideration of cultural values and tribal interests and concerns within WCA-3 and ENP; (5) and exploring opportunities for enhancing recovery of federally and state listed species, consistent with restoration objectives, the USACE's authorities for MWD and C-111 projects and operational considerations.

b. A scoping letter will be used to invite comments from Federal, State, and local agencies, affected Indian tribes, and other interested private organizations and individuals.

c. A scoping meeting will be held on June 28, 2011 from 6 to 9 p.m. at the Miami-Dade College, West Campus located at 3800 NW. 115th Avenue, Doral, FL. Assistance for individuals with special needs or language translation will be available as needed by calling 904-232-1789.

d. All alternative plans will be reviewed under provisions of appropriate laws and regulations, including the Endangered Species Act, Fish and Wildlife Coordination Act, Clean Water Act, and Farmland Protection Policy Act.

e. The Draft Environmental Impact Assessment is expected to be available for public review in the 1st quarter of 2013.

Dated: May 18, 2011.
Eric P. Summa,
Chief, Environmental Branch.

[FR Doc. 2011-13348 Filed 5-27-11; 8:45 am]

BILLING CODE 3720-58-P